ENVIRONMENTAL PROTECTION AGENCY

[EPA-HQ-OAR-2016-0346; FRL-9949-14-OAR]

RIN 2060-AS30

Oil and Natural Gas Sector: Request for Information, Emerging Technologies

AGENCY: Environmental Protection Agency (EPA).

ACTION: Notice; request for information.

SUMMARY: The Environmental Protection Agency (EPA) is issuing this request for information to the public to obtain information about monitoring, detection of fugitive emissions, and alternative mitigation approaches in the oil and natural gas sector.

DATES: Responses must be received on or before November 15, 2016.

ADDRESSES: Submit your information, identified by Docket ID No. EPA-HQ-OAR-2016-0346, to the Federal eRulemaking Portal: http://www.regulations.gov. Follow the online instructions for submitting responses. Once submitted, responses cannot be edited or withdrawn. The EPA may publish any response received to its public docket. Do not submit electronically any information you consider to be Confidential Business Information (CBI) or other information whose disclosure is restricted by statute. Additional information on submission of CBI can be found below in this document. Multimedia submissions (audio, video, etc.) must be accompanied by a written response. The written response is considered the official response and should include discussion of all points you wish to make. The EPA will generally not consider information or content located outside of the primary submission (i.e., on the Web, cloud, or other file sharing system). For additional submission methods, the full EPA public comment policy, information about CBI or multimedia submissions, and general guidance on making effective comments, please visit http://www2.epa.gov/dockets/commenting-epa-dockets.

Docket. All documents in the docket are listed in the http://www.regulations.gov index. Although listed in the index, some information is not publicly available, e.g., CBI or other information whose disclosure is restricted by statute. Certain other material, such as copyrighted material, will be publicly available only in hard copy. Publicly available docket materials are available either electronically at http://www.regulations.gov or in hard copy at the U.S. Environmental Protection Agency, EPA Docket Center, EPA WJC West Building, Room 3334, 1301 Constitution Ave. NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For further information about this action, contact Mr. Matthew Witosky, Sector Policies and Programs Division (E143-05), Office of Air Quality Planning and Standards, Environmental Protection Agency, Research Triangle Park, North Carolina 27711, telephone number: (919) 541-2865; facsimile number: (919) 541-3740; email address: witosky.matthew@epa.gov. For further information on the EPA's oil and natural gas sector regulatory program, contact Mr. Bruce Moore, Sector Policies and Programs Division (E143-05), Office of Air Quality Planning and Standards, Environmental Protection Agency, Research Triangle Park, North Carolina 27711, telephone number: (919) 541-5460; facsimile number: (919) 541-3470; email address: moore.bruce@epa.gov. For additional contact information, see the following SUPPLEMENTARY INFORMATION section.

SUPPLEMENTARY INFORMATION:

I. General Information

A. Who may be interested in this request?

This request may be of interest to the categories and entities listed in Table 1:

Table 1—Industrial Source Categories Potentially Interested in This Action
Category | NAICS code ¹ | Examples of industrial entities
Industry | 211111 | Crude Petroleum and Natural Gas Extraction.
| 211112 | Natural Gas Liquid Extraction.
| 221210 | Natural Gas Distribution.
| 486110 | Pipeline Distribution of Crude Oil.
| 486210 | Pipeline Transportation of Natural Gas.
Federal government |  | Not affected.
State/local/tribal government |  | Potentially interested.
¹ North American Industry Classification System.

This table is not intended to be exhaustive, but rather is meant to provide a guide for readers regarding entities that may desire to submit information responsive to this request. If you have any questions, consult either the air permitting authority for the entity, your EPA Regional representative as listed in 40 CFR 60.4 (General Provisions), or the individuals listed in the FOR FURTHER INFORMATION CONTACT section of this document.

B. What should I consider as I prepare my information and responses to the EPA?

Do not submit information containing CBI to the EPA through http://www.regulations.gov or email. Send or deliver information identified as CBI only to the following address: OAQPS Document Control Officer (C404-02), Office of Air Quality Planning and Standards, U.S. Environmental Protection Agency, Research Triangle Park, North Carolina 27711, Attention: Docket ID No. EPA-HQ-OAR-2016-0346. Clearly mark the part or all of the information that you claim to be CBI. For CBI in a disk or CD-ROM that you mail to the EPA, mark the outside of the disk or CD-ROM as CBI and then identify electronically within the disk or CD-ROM the specific information that is claimed as CBI. In addition to one complete version of the information that includes information claimed as CBI, a copy of the information that does not contain the information claimed as CBI must be submitted for inclusion in the public docket. Information so marked will not be disclosed except in accordance with procedures set forth in 40 CFR part 2. Send or deliver information identified as CBI only to the following address: OAQPS Document Control Officer (C404-02), U.S. Environmental Protection Agency, Research Triangle Park, North Carolina 27711, Attention Docket ID No. EPA-HQ-2016-0346.

II. Background

On June 3, 2016, the EPA published a final rule titled “Oil and Natural Gas Sector: Emission Standards for New, Reconstructed, and Modified Sources,” 81 FR 35824 (June 3, 2016). These new source performance standards (NSPS), at 40 CFR part 60, subpart OOOOa, set standards for both greenhouse gases (GHGs) and volatile organic compounds (VOC).

While a great deal of information is available on the oil and natural gas industry and has to date provided a strong technical foundation to support the Agency's recent actions, the EPA is seeking additional information now of a broader perspective. This additional information may be key in addressing emissions from existing oil and natural gas sources under section 111(d) of the Clean Air Act (CAA). The EPA has taken the first step toward obtaining such information, issuing the first draft of an Information Collection Request (ICR) requiring owners/operators to provide information that may enable the development of effective standards for this industry under CAA section 111(d). The EPA published the first draft of the ICR June 3, 2016, for public comment (81 FR 35763).

Recognizing that technology used to detect, measure, and mitigate emissions is rapidly developing, the EPA is issuing this request for information, inviting all parties to provide information on innovative technologies to accurately detect, measure, and mitigate emissions from the oil and natural gas industry.

For example, the EPA is aware of efforts to foster development and use of advanced monitoring and leak detection equipment, generally similar to optical gas imaging required in the 2016 NSPS. The Agency is requesting information related to these efforts. The EPA seeks to take advantage of the new knowledge being generated by research and focused activities such as the Department of Energy's Advanced Research Projects Agency-Energy (ARPA-E) and other similar programs that are developing innovative monitoring, detection, and mitigation technologies. While final results are not yet available from some projects, such as those funded under ARPA-E, the EPA is interested in learning about works-in-progress that may lead to advanced monitoring techniques, devices or systems appropriate for the dynamic and complex oil and natural gas sector.

The EPA also is seeking information on how these advanced monitoring technologies would be broadly applicable to existing sources. For example, research may be developing monitoring systems that provide coverage across emission points or equipment in a way that was not previously possible, thus enabling a different approach to setting standards.

The EPA is also seeking information to advance mitigation opportunities. The EPA is particularly interested in information on technologies that could allow for effective emissions controls at well sites or other co-located facilities.

Parties may respond to this request for information with published or unpublished papers, technical information, data, or any other information they consider responsive to this request.

In addition to consideration of the information we hope to receive in response to this request, the EPA intends to provide an opportunity to further engage with stakeholders on these subjects. An event, such as the Natural Gas STAR Annual Implementation Workshop, tentatively scheduled for early 2017, may be a valuable forum for this exchange of information. Specific information regarding an event will be made available in the coming months.

The EPA is providing a 120-day period for the public to submit the requested information. While the EPA will not respond to all submissions, we may contact respondents for further information or data.

Dated: July 8, 2016.
Janet G. McCabe,
Acting Assistant Administrator, Office of Air and Radiation.

[FR Doc. 2016-16927 Filed 7-15-16; 8:45 am]

BILLING CODE 6560-50-P